DEPARTMENT OF TRANSPORTATION

Federal Aviation Administration

Notice of Availability of the Draft Environmental Impact Statement and DOT Section 4(f)/303(c) Evaluation for a Proposed Replacement Airport for the City of St. George, UT and Notice of Public Hearing Date, Time, and Location

AGENCY: The lead federal agency is the Federal Aviation Administration (FAA), DOT. The National Park Service (NPS) is a cooperating Federal agency.

ACTION: Notice of availability, notice of comment period, notice of public information meeting and public hearing.

SUMMARY: The Federal Aviation Administration (FAA) is issuing this Notice of Availability to advise the public that a Draft Environmental Impact Statement (DEIS) containing a DOT Section 4(f)/303(c) evaluation will be available for public review beginning September 9, 2005. The DEIS details the proposed development of a replacement airport and related facilities for the city of St. George, Utah and addresses the environmental impacts associated with its development. The DEIS presents the purpose and need for the proposed project, a comprehensive analysis of the alternatives to the proposed project, and potential environmental impacts associated with the proposed development of the proposed replacement airport.

The City of St. George, operator of the existing St. George Municipal Airport, has submitted an Airport Layout Plan, as revised, for approval. The DEIS assesses the potential impacts that may result from the development of a replacement airport with a 9,3000-foot Runway 01/19 and all support facilities (i.e., taxiways and associated lighting and NAVAIDS). This DEIS also assesses the federal action regarding installation of navigational aids, airspace use, approach and departure procedures, and associated terminal and landside projects. One historic site, the Little Black Mountain Petroglyph site, would potentially be affected. This document also assesses the potential noise impact on Zion National Park, Little Black Mountain Petroglyph site, and 42 other potentially noise sensitive properties in the vicinity.

Public Comment and Information Meeting/Public Hearing: The public comment period on the DEIS and associated studies will start September 9, 2005 and will end on November 8, 2005. A Public Information Meeting and Public Hearing will be held on October 19, 2005 at The Dixie Center, 1835 Convention Center Drive, St. George, UT 84790. The Public Information Meeting will begin at 3 p.m. (MST) and will last until 7 p.m. (MST). The Public Hearing will be conducted concurrently with an information workshop.

The public will be afforded the opportunity to present oral testimony and/or written testimony pertinent to the subject of the hearing. Testimony from an elected official, group or agency representative will be limited to 5 minutes. All others will be given 3 minutes. Forms for providing written comments will also be available at the Public Hearing. Comments received via fax or e-mail can only be accepted with the full name and address of the individual commenting. All comments are to be submitted to Mr. David Field of the FAA, at the address shown below, and the comments must be postmarked and email/fax must be sent by no later than midnight (MST), Tuesday, November 8, 2005. The DEIS may be reviewed for comment during regular business hours until November 8, 2005 at the following locations:

1. Cedar City Library, 303 North 100 East, Cedar City, UT 84720.

2. Hurricane Valley Branch, 36 South 300 West, Hurricane, UT 84737.

3. Santa Clara Branch, 1099 North Lava flow Drive, St. George, UT 84770.

4. Springdale Branch, 898 Zion Park Blvd, Spingdale, UT 84767-0509.

5. Washington County, 50 South Main, St. George, UT 84770.

A limited number of copies of the DEIS and related documents will also be available for review by appointment only at the following FAA or City of St. George offices:

1. FAA, Northwest Mountain Region Office, 1601 Lind Avenue, S.W., Suite 315, Renton, WA 98055, (425) 227-2610.

2. FAA, Denver Airports District Office, 26805 East 68th Avenue, Suite 224, Denver, CO 80249, (303) 342-1254.

3. St. George Municipal Building, 175 East 200 North, St. George, UT 84770, (435) 634-5800.

4. St. George Airport, 620 S. Airport Road, St. George, UT 84770, (435) 634-5822.

An electronic copy of the DEIS is available on the project Web site and can be accessed at http://www.airportsites.net/sgu-eis.

SUPPLEMENTARY INFORMATION: The FAA encourages all interested parties to provide comments concerning the scope and content of the Draft EIS. Comments should be as specific as possible and address the analysis of potential environmental impacts and the adequacy of the proposed action or merits of alternatives. Reviewers should organize their participation so that it is meaningful and makes the agencies aware of the viewer's interests and concerns using quotations and other specific references to the text of the Draft EIS and related documents. Matters that could have been raised with specificity during the Draft EIS comment period may not be considered if they are raised later in the decision making process. This commenting procedure is intended to ensure that substantive comments and concerns are made available to the FAA in a timely manner so that the FAA has an opportunity to address them.

FOR FURTHER INFORMATION CONTACT: Mr. David Field, Manager, Planning/Programming Branch, Airports Division, Federal Aviation Administration, Northwest Mountain Region, 1601 Lind Avenue, SW., Suite 315, Renton, WA 98055-4056, Telephone: (425) 227-1600, E-mail: David.Field@faa.gov.

Issued in Renton, Washington on August 31, 2005.
David A. Field,
Manager, Planning, Programming and Capacity Branch, Northwest Mountain Region.

[FR Doc. 05-17716 Filed 9-6-05; 8:45 am]

BILLING CODE 4910-13-M